DEPARTMENT OF TRANSPORTATION

Federal Aviation Administration

14 CFR Part 39

[Docket No. FAA-2020-0572; Product Identifier 2017-SW-056-AD; Amendment 39-21358; AD 2020-26-03]

RIN 2120-AA64

Airworthiness Directives; Airbus Helicopters Deutschland GmbH Helicopters

AGENCY: Federal Aviation Administration (FAA), DOT.

ACTION: Final rule.

SUMMARY: The FAA is superseding Airworthiness Directive (AD) 2007-26-51 which applied to certain Airbus Helicopters Deutschland GmbH Model EC135 helicopters. AD 2007-26-51 required inspecting the tail rotor control rod (control rod) and ball pivot and, depending on findings, replacing those parts. This new AD requires inspecting certain ball pivots, applying corrosion preventative compound on the ball pivot, and corrective action, as applicable. This AD also requires replacing the control rod with a newly developed control rod. This AD was prompted by the manufacturer's development of a new control rod, which the FAA has determined must be installed in order to address the identified unsafe condition. The actions of this AD are intended to address an unsafe condition on these products.

DATES: This AD is effective January 22, 2021.

The Director of the Federal Register approved the incorporation by reference of a certain publication listed in this AD as of January 22, 2021.

ADDRESSES: For service information identified in this final rule, contact Airbus Helicopters, 2701 N Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy., Room 6N-321, Fort Worth, TX 76177. It is also available on the internet at https://www.regulations.gov by searching for and locating Docket No. FAA-2020-0572.

Examining the AD Docket

You may examine the AD docket on the internet at https://www.regulations.gov in Docket No. FAA-2020-0572; or in person at Docket Operations between 9 a.m. and 5 p.m., Monday through Friday, except Federal holidays. The AD docket contains this AD, the European Aviation Safety Agency (now European Union Aviation Safety Agency) (EASA) AD, any service information that is incorporated by reference, any comments received, and other information. The street address for Docket Operations is U.S. Department of Transportation, Docket Operations, M-30, West Building Ground Floor, Room W12-140, 1200 New Jersey Avenue SE, Washington, DC 20590.

FOR FURTHER INFORMATION CONTACT: David Hatfield, Aviation Safety Engineer, Aircraft Systems Section, Technical Innovation Policy Branch, FAA, 10101 Hillwood Pkwy., Fort Worth, TX 76177; telephone 817-222-5116; email David.Hatfield@faa.gov.

SUPPLEMENTARY INFORMATION:

Discussion

The FAA issued a notice of proposed rulemaking (NPRM) to amend 14 CFR part 39 to remove AD 2007-26-51, Amendment 39-15357 (73 FR 6008, February 1, 2008) (AD 2007-26-51), and add a new AD. AD 2007-26-51 applied to certain Airbus Helicopters Deutschland GmbH (type certificate previously held by Eurocopter Deutschland GmbH) Model EC135 helicopters, serial number (S/N) 0005 up to and including S/N 0444, except S/N 0028, and with control rod part number (P/N) L672M2005207, installed. The NPRM was published in the Federal Register on June 18, 2020 (85 FR 36816). The NPRM proposed to require inspecting certain ball pivots for damage and freedom of movement, applying corrosion preventative compound on the ball pivot, and corrective action, as applicable. The NPRM also proposed to require replacing the control rod with the newly developed control rod that the FAA determined was necessary to address the unsafe condition.

The NPRM was prompted by EASA AD No. 2010-0227R1, dated April 7, 2017 (referred to after this as the Mandatory Continuing Airworthiness Information, or “the MCAI”), issued by EASA, which is the Technical Agent for the Member States of the European Union, to correct an unsafe condition for all Model EC135 P1, EC135 P2, EC135 P2+, EC135 T1, EC 135 T2, and EC135 T2+ helicopters; and Model EC635 T1, EC635 P2+, and EC635 T2+ helicopters. EASA advises that in 2007 an accident occurred on an EC135 helicopter in Japan. Preliminary investigation results indicated that loss of control was due to failure of the control rod. EASA issued EASA Emergency AD 2007-0301-E, dated December 13, 2007 (EASA AD 2007-0301-E) to inspect the affected control rod P/N L672M2005207 and the ball pivot (which correspond to the actions required by AD 2007-26-51). EASA AD 2007-0301-E was subsequently superseded by EASA AD 2007-0313, dated December 21, 2007, to require repetitive inspections and, depending on findings, the replacement of the control rod and ball pivot, only for helicopters not equipped with an automatic flight control system (AFCS). After review of the inspection results, EASA issued EASA AD 2008-0064, dated April 4, 2008, and later revised to EASA AD 2008-0064 R1, dated April 15, 2008 (EASA AD 2008-0064 R1), to apply the requirements to helicopters equipped with an AFCS.

EASA also advises that after EASA AD 2008-0064R1 was issued, Eurocopter Deutschland GmbH developed a new control rod P/N L672M2006101, installation of which constituted terminating action for the repetitive inspections. Consequently, EASA issued EASA AD 2010-0227, dated November 3, 2010, and corrected November 8, 2010, retaining the requirements of EASA AD 2008-0064R1, and requiring the replacement of control rod P/N L672M2005207 with the new control rod P/N L672M2006101. The FAA has determined that this new control rod must be installed in order to address the unsafe condition.

In addition, EASA advises that following a review of data and feedback received from in-service helicopters, it has been determined that the repetitive inspections of the ball pivot are no longer required to address the unsafe condition. The repetitive inspections of the ball pivot are now included in Chapter 05 of the aircraft maintenance manual. Therefore, EASA issued EASA AD 2010-0227R1 to remove the requirement for repetitive inspections of the control rod and of the ball pivot.

You may examine the MCAI in the AD docket on the internet at https://www.regulations.gov by searching for and locating Docket No. FAA-2020-0572.

Comments

The FAA gave the public the opportunity to participate in developing this final rule, but the FAA did not receive any comments on the NPRM or on the determination of the cost to the public.

FAA's Determination

These helicopters have been approved by EASA and are approved for operation in the United States. Pursuant to the FAA's bilateral agreement with the European Union, EASA has notified the FAA of the unsafe condition described in its AD. The FAA is issuing this AD after evaluating all of the information provided by EASA and determining the unsafe condition exists and is likely to exist or develop on other helicopters of the same type designs and that air safety and the public interest require adopting the AD requirements as proposed.

Differences Between This AD and the MCAI or Service Information

The MCAI includes a compliance time of 50 flight hours for the inspection of a certain ball pivot; 100 flight hours or 43 days for the inspection of a certain other ball pivot; and 400 flight hours or 12 months for the replacement of the control rod. This AD requires all actions be accomplished within 50 hours time-in-service.

The MCAI applies to Airbus Helicopters Deutschland GmbH Model EC635 T1, EC635 P2+, and EC635 T2+ helicopters. Model EC635 T1, EC635 P2+, and EC635 T2+ helicopters are not certified by the FAA and are not included on the U.S. type certificate data sheet except where the U.S. type certificate data sheet explains that the Model EC635T2+ helicopter having serial number 0858 was converted from Model EC635T2+ to Model EC135T2+; this AD therefore does not include those Model EC 635 helicopters in the applicability.

Additionally, although the MCAI and service information specify to contact the manufacturer, this AD does not include that requirement.

Related Service Information Under 1 CFR Part 51

Airbus Helicopters has issued Alert Service Bulletin ASB EC135-67A-017, Revision 4, dated April 3, 2017, including the Appendix (watermarked as Appendix to SB EC135-67A-017 Revision 4). This service information describes procedures for, among other actions, an inspection of ball pivots, P/Ns 92-201-00 and 92-207-00, for freedom of movement, and for damage (e.g., cracks, missing hardware, loose bearing, or play), application of corrosion preventative compound, and corrective actions. Corrective actions include replacing the ball pivot and the control rod with serviceable parts, and applying corrosion preventative compound.

This service information is reasonably available because the interested parties have access to it through their normal course of business or by the means identified in the ADDRESSES section.

Other Related Service Information

Eurocopter has issued Service Bulletin EC135-67-018, Revision 01, dated May 15, 2008, which describes procedures for replacing the control rod having P/N L672M2005207 with a control rod having P/N L672M2006101.

Eurocopter has also issued Alert Service Bulletin EC135-67A-017, Revision 03, dated July 26, 2010, which describes procedures for ball pivot inspections and replacements.

Costs of Compliance

The FAA estimates that this AD affects 311 helicopters of U.S. Registry. The FAA estimates that operators may incur the following costs in order to comply with this AD. Labor costs are estimated at $85 per work-hour.

Inspecting the ball pivot takes about 1 work-hour, for an estimated cost of $85 per helicopter and $26,435 for the U.S. fleet. If applicable, applying corrosion preventative compound takes a minimal amount of additional time for a nominal cost.

Replacing the control rod takes about 3 work-hours, and parts cost about $800 for an estimated cost of $1,055 per helicopter and $328,105 for the U.S. fleet.

Replacing the control rod and ball pivot takes up to about 6 work-hours, and parts cost up to about $2,150 for an estimated cost of up to $2,660 per helicopter.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2007-26-51, Amendment 39-15357 (73 FR 6008, February 1, 2008), and

b. Adding the following new AD:

2020-26-03 Airbus Helicopters Deutschland GmbH: Amendment 39-21358; Docket No. FAA-2020-0572; Product Identifier 2017-SW-056-AD.

(a) Effective Date

This airworthiness directive (AD) becomes effective January 22, 2021.

(b) Affected ADs

This AD replaces AD 2007-26-51, Amendment 39-15357 (73 FR 6008, February 1, 2008) (AD 2007-26-51).

(c) Applicability

This AD applies to Airbus Helicopters Deutschland GmbH Model EC135P1, EC135T1, EC135P2, EC135T2, EC135P2+, EC135T2+, EC135P3, and EC135T3 helicopters, certificated in any category, all serial numbers.

(d) Subject

Joint Aircraft Service Component (JASC) Code: 6700, Rotorcraft Flight Control.

(e) Reason

This AD was prompted by an accident involving the failure of a tail rotor control rod. The FAA is issuing this AD to address failure of a tail rotor control rod and subsequent loss of control of the helicopter.

(f) Compliance

You are responsible for performing each action required by this AD within the specified compliance time unless it has already been accomplished prior to that time.

(g) Definitions

(1) Group 1: Helicopters that, on the effective date of this AD, have a tail rotor control rod installed having part number (P/N) L672M2005207.

(2) Group 2: Helicopters that, on the effective date of this AD, do not have a tail rotor control rod installed having P/N L672M2005207.

(h) Ball Pivot Inspection

Within 50 hours time-in-service after the effective date of this AD: Inspect the ball pivot, P/N 92-201-00 and P/N 92-207-00, for damage and freedom of movement, in accordance with step 3.C.(3) or step 3.D.(3), as applicable, of the Accomplishment Instructions of the Appendix (watermarked as Appendix to SB EC135-67A-017 Revision 4) to Airbus Helicopters Alert Service Bulletin ASB EC135-67A-017, Revision 4, dated April 3, 2017. For purposes of this inspection, damage to the ball pivot may be indicated by cracks, missing hardware, loose bearings, or play.

(i) Corrective Action

If, during the inspection required by paragraph (h) of this AD, there is any damage on any ball pivot or the ball pivot cannot be moved: Before further flight, replace the ball pivot in accordance with step 3.C.(3) or step 3.D.(3), as applicable, of the Accomplishment Instructions of the Appendix (watermarked as Appendix to SB EC135-67A-017 Revision 4) to Airbus Helicopters Alert Service Bulletin ASB EC135-67A-017, Revision 4, dated April 3, 2017, and the tail rotor control rod as required by paragraph (j) of this AD.

(j) Tail Rotor Control Rod Replacement

Group 1: Unless already done as required by paragraph (i) of this AD, within 50 hours time-in-service after the effective date of this AD, replace the tail rotor control rod having P/N L672M2005207 with a tail rotor control rod having P/N L672M2006101.

Note 1 to paragraph (j): Guidance for replacing the tail rotor control rod can be found in Eurocopter Service Bulletin EC135-67-018, Revision 01, dated May 15, 2008.

(k) Parts Installation Prohibition

(1) Group 1: After modification of a helicopter as required by paragraphs (i) or (j) of this AD, no person may install on any helicopter a tail rotor control rod having P/N L672M2005207.

(2) Group 2: As of the effective date of this AD, no person may install on any helicopter a tail rotor control rod having P/N L672M2005207.

(l) Credit for Previous Actions

This paragraph provides credit for the inspection and ball pivot replacements required by paragraphs (h) and (i) of this AD, if those actions were performed before the effective date of this AD using Eurocopter Alert Service Bulletin EC135-67A-017, Revision 03, dated July 26, 2010.

(m) Special Flight Permit

Special flight permits, as described in 14 CFR 21.197 and 21.199, are not allowed.

(n) No Reporting Requirement

Although the Appendix (watermarked as Appendix to SB EC135-67A-017 Revision 4) to Airbus Helicopters Alert Service Bulletin ASB EC135-67A-017, Revision 4, dated April 3, 2017, specifies to contact the manufacturer, this AD does not include that requirement.

(o) Alternative Methods of Compliance (AMOCs)

(1) The Manager, Strategic Policy Rotorcraft, FAA, may approve AMOCs for this AD. Send your proposal to: David Hatfield, Aviation Safety Engineer, Aircraft Systems Section, Technical Innovation Policy Branch, FAA, 10101 Hillwood Pkwy., Fort Worth, TX 76177; telephone 817-222-5116; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(p) Related Information

(1) The subject of this AD is addressed in European Aviation Safety Agency (now European Union Aviation Safety Agency) (EASA) AD No. 2010-0227R1, dated April 7, 2017. This EASA AD may be found in the AD docket on the internet at https://www.regulations.gov by searching for and locating Docket No. FAA-2020-0572.

(2) For service information identified in this AD, contact Airbus Helicopters, 2701 N Forum Drive, Grand Prairie, TX 75052; telephone 972-641-0000 or 800-232-0323; fax 972-641-3775; or at https://www.airbus.com/helicopters/services/technical-support.html. You may view a copy of the service information at the FAA, Office of the Regional Counsel, Southwest Region, 10101 Hillwood Pkwy., Room 6N-321, Fort Worth, TX 76177.

(q) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin ASB EC135-67A-017, Revision 4, dated April 3, 2017.

(ii) [Reserved]

(3) For service information identified in this AD, contact Airbus Helicopters, 2701 N Forum Drive, Grand Prairie, TX 75052; telephone 972-641-0000 or 800-232-0323; fax 972-641-3775; or at https://www.airbus.com/helicopters/services/technical-support.html.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on December 8, 2020.
Lance T. Gant,
Director, Compliance & Airworthiness Division, Aircraft Certification Service.

[FR Doc. 2020-27808 Filed 12-17-20; 8:45 am]

BILLING CODE 4910-13-P